DEPARTMENT OF LABOR

Employment and Training Administration

Comment Request for Information Collection for Planning Guidance and Instructions for Submission of the Strategic State Plan and Plan Modifications for Title I of the Workforce Investment Act and Wagner-Peyser Act, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA process helps to ensure that requested data can be provided in the desired format, reporting burden (time and financial resources) is minimized, collection instruments are clearly understood, and the impact of collection requirements on respondents can be properly assessed.

Currently, the Employment and Training Administration (ETA) is soliciting comments concerning the collection of data about the Planning Guidance and Instructions for Submission of the Strategic State Plan for title I of the Workforce Investment Act of 1998 (WIA) and the Wagner-Peyser Act in order to prevent PRA approval from lapsing.

DATES: Submit written comments to the office listed in the addresses section below on or before November 10, 2014.

ADDRESSES: Send written comments to Heather Fleck, Division of WIA Adult Services and Workforce System, Room S-4203, Employment and Training Administration, U.S. Department of Labor, 200 Constitution Avenue NW., Washington, DC 20210. Telephone number: 202-693-2956 (this is not a toll-free number). Individuals with hearing or speech impairments may access the telephone number above via TTY by calling the toll-free Federal Information Relay Service at 1-877-889-5627 (TTY/TDD). Fax: 202-693-3817. Email: fleck.heather@dol.gov. To obtain a copy of the proposed information collection request (ICR), please contact the person listed above.

FOR FURTHER INFORMATION CONTACT: Heather Fleck at 202-693-2956, or fleck.heather@dol.gov.

SUPPLEMENTARY INFORMATION:

I. Background

The Workforce Investment Act of 1998 (WIA) requires states to submit either a “standalone” strategic plan for title I of the Workforce Investment Act of 1998 and the Wagner-Peyser Act (WIA Section 112) or a Unified Plan with partner programs (WIA Section 501). The State may also submit requests for waivers and work-flex as parts of the Strategic State Plan. These State Plan requirements are titled “State Integrated Workforce Plan Requirements for Workforce Investment Act/Wagner-Peyser Act and Department of Labor Workforce Programs,” and “Planning Guidance for State Unified Plans and Unified Plan Modifications Submitted under Section 501 of the Workforce Investment Act (WIA).” The Planning Guidance and Instructions provide a framework for the collaboration of governors, local elected officials, businesses and other partners to continue the development of workforce investment systems that address customer needs, deliver integrated user-friendly services, and are accountable to the customers and the public.

Sections 102 and 103 of the Workforce Innovation and Opportunity Act (WIOA), (H.R. 803, July 22, 2014) include similar provisions for States to submit State Plans. Many of WIOA's provisions take effect on July 1, 2015, but the existing WIA state and local plan provisions remain in effect until July 1, 2016. The Employment and Training Administration (ETA) is conducting a review of WIOA's implementation timeline and State Plan provisions, and may amend this information collection as part of its implementation actions.

This information collection is submitted under the legal requirements of WIA, the law in effect at this time.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension without revisions.

Title: Planning Guidance and Instructions for Submission of the Strategic State Plan for Title I of the Workforce Investment Act of 1998 (WIA) and the Wagner-Peyser Act.

OMB Number: 1205-0398.

Affected Public: State or local governments.

Estimated Total Annual Respondents: 10.

Estimated Total Annual Responses: 10.

Estimated Total Annual Burden Hours: 400.

Total Estimated Annual Other Costs Burden: There are no other costs.

We will summarize and/or include in the request for OMB approval of the ICR, the comments received in response to this comment request; they will also become a matter of public record.

Portia Wu,
Assistant Secretary for Employment and Training, Labor.

[FR Doc. 2014-21571 Filed 9-9-14; 8:45 am]

BILLING CODE 4510-FN-P